DEPARTMENT OF COMMERCE

Foreign-Trade Zones Board

[B-32-2015]

Authorization of Production Activity; Foreign-Trade Zone 83; Toyota Motor Manufacturing Alabama, Inc., (Motor Vehicle Engines and Transmissions); Huntsville, Alabama

On April 14, 2015, Toyota Motor Manufacturing Alabama, Inc., an operator of FTZ 83, submitted a notification of proposed production activity to the Foreign-Trade Zones (FTZ) Board for its facility in Huntsville, Alabama.

The notification was processed in accordance with the regulations of the FTZ Board (15 CFR part 400), including notice in the Federal Register inviting public comment (80 FR 27286, 5-13-2015). The FTZ Board has determined that no further review of the activity is warranted at this time. The production activity described in the notification is authorized, subject to the FTZ Act and the FTZ Board's regulations, including Section 400.14.

Dated: August 12, 2015.
Andrew McGilvray,
Executive Secretary.

[FR Doc. 2015-20389 Filed 8-17-15; 8:45 am]

BILLING CODE 3510-DS-P